FEDERAL COMMUNICATIONS COMMISSION

47 CFR Parts 1 and 25

[IB Docket Nos. 22-411, 22-271; FCC 25-48; FR ID 309341]

Expediting Initial Processing of Satellite and Earth Station Applications; Space Innovation

AGENCY: Federal Communications Commission.

ACTION: Final rule.

SUMMARY: In this document, the Federal Communications Commission (Commission or we) adopts a Second Report and Order with variety measures to expedite space and earth station approvals, including by eliminating the requirement to file certain license modification applications and eliminating outdated rules. In particular, the Second Report and Order provides regulatory certainty for, and eliminates burdens on, the nascent Ground-Station-as-a-Service industry, where a neutral host establishes connectivity to multiple satellite systems in space. As licensing activity before the Commission increases in complexity and number, concrete measures to expedite earth and space station applications will support U.S. leadership in the growing space economy. Accordingly, adoption of these concrete measures to expedite the processing of applications for authority to operate space and earth stations under part 25 of the Commission's rules would be vital to supporting U.S. leadership in the growing space economy.

DATES: These rules are effective September 26, 2025, except for the amendments to §§ 25.110(e) (amendatory instruction 4), 25.117(i) (amendatory instruction 6), 25.118(a)(3), 25.118(b)(1), (2), and (3), and (e)(4), and (h) (amendatory instruction 8), and 25.137(h) (amendatory instruction 10), which are indefinitely delayed. The Commission will publish a document in the Federal Register announcing the effective date of these rule sections.

FOR FURTHER INFORMATION CONTACT: Gregory Coutros, Space Bureau, Earth Station Licensing Division, at gregory.coutros@fcc.gov or at (202) 418-2351.

SUPPLEMENTARY INFORMATION: This is a summary of the Commission's Second Report and Order (Order), FCC 25-48, adopted August 7, 2025, and released August 8, 2025. The document is available for public inspection online at https://docs.fcc.gov/public/attachments/FCC-25-48A1.pdf. The document is also available for inspection and copying during business hours in the FCC Reference Center, 45 L Street NE, Washington, DC 20554. To request materials in accessible formats for people with disabilities, send an email to FCC504@fcc.gov or call the Consumer & Governmental Affairs Bureau at 202-418-0530 (voice), 202-418-0432 (TTY).

Final Regulatory Flexibility Analysis

The Regulatory Flexibility Act of 1980, as amended (RFA), requires that an agency prepare a regulatory flexibility analysis for notice and comment rulemakings, unless the agency certifies that “the rule will not, if promulgated, have a significant economic impact on a substantial number of small entities.” Accordingly, the Commission has prepared a Final Regulatory Flexibility Analysis (FRFA) concerning the possible impact of the rule and policy changes contained in the Order on small entities. The FRFA is set forth in Section IV below.

Final Paperwork Reduction Act Analysis

The Order may contain new or substantively modified information collection requirements subject to the Paperwork Reduction Act of 1995 (PRA), Public Law 104-13. All such requirements will be submitted to the Office of Management and Budget (OMB) for review under Section 3507(d) of the PRA. OMB, the general public, and other federal agencies will be invited to comment on any new or modified information collection requirements contained in this proceeding. In addition, we note that pursuant to the Small Business Paperwork Relief Act of 2002, Public Law 107-198, see 44 U.S.C. 3506(c)(4), we previously sought specific comment on how the Commission might further reduce the information collection burden for small business concerns with fewer than 25 employees.

In the document, we have assessed the effects of revising the Commission's earth station licensing rules and adopting streamlined earth station rules and rules related to relocating geostationary orbit (GSO) satellites and certain applicants for special temporary authority (STA) and find that they will have a small impact on small business concerns. Due to the significant costs involved in earth station and space station development and deployment, we anticipate that few entities impacted by this rulemaking would qualify as small businesses.

Additionally, the document may contain non-substantive modifications to approved information collections. Any such modifications will be submitted to OMB for review pursuant to OMB's non-substantive modification process.

Congressional Review Act

The Commission has determined, and the Administrator of the Office of Information and Regulatory Affairs, OMB, concurs that this rule is “non-major” under the Congressional Review Act, 5 U.S.C. 804(2). The Commission will send a copy of the Order to Congress and the Government Accountability Office pursuant to 5 U.S.C. 801(a)(1)(A).

Synopsis

I. Introduction

1. To support America's booming space economy, the Commission is undertaking a series of reforms to better orient its rules toward permissionless innovation. Through sensible changes, we are eliminating outdated barriers to space industry business models, giving satellite operators more flexibility to deliver new services, and deleting burdensome, unnecessary requirements. Today's action represents another milestone in the Commission's work to streamline, simplify, and modernize the processing of space and earth station applications.

2. The Commission's existing regulatory framework was developed for a space economy of the past. While the space industry has become a pivotal force for America's economy and national security, the Commission's rules have not kept pace. In 2023, the U.S. space economy accounted for $142.5 billion of total U.S. Gross Domestic Product (GDP) and $240.9 billion of gross output. Additionally, the global space economy expanded by 4 percent with the satellite ground segment specifically generating $155.3 billion in 2024. The growth in economic output has created new jobs. The Commission, meanwhile, has seen a corresponding surge in licensing activity, as applications to operate space and earth stations have grown in complexity and number. Faced with this uptick, the agency's licensing rules have resulted in inefficiencies and backlog. We are accordingly focused on revising and updating the Commission's part 25 space and earth station license application policies and processing procedures.

3. In the Order, we take the following actions to free operators of unnecessary regulatory hurdles:

• First, we adopt a new process by which earth station operators may receive a baseline license without identifying a specific satellite point of communication, and adopt processes by which earth station applicants can easily add or remove identified points of communication. Under the Commission's prior rules, earth station operators could not receive a license without an identified point of communication and thus could not establish themselves as Ground-Station-as-a-Service (GSaaS) providers until they had already secured a satellite client, causing a classic chicken and egg problem. These changes will support GSaaS business models, which in turn will increase access to the infrastructure needed by space companies small and large.

• Second, we expand the list of license modifications that do not require prior authorization. For earth stations, we remove the overly restrictive “electrically identical” language in the Commission's prior rules. GSO satellites no longer will be required to file for STA for relocation during drift, so long as certain conditions are satisfied. And for NGSO satellites, we no longer require prior authorization for certain minor changes, which previously became effective only once acted upon by the Commission. Such changes now will become effective in most cases upon 60 days notification to the Commission. These actions will free operators to make certain system changes without the burden of regulatory paperwork or waiting for Commission action.

• Third, we eliminate the outdated requirement to retain paper copies of applications. The Commission's prior rules included a requirement that operators print and retain a paper copy of the International Communications Filing System (ICFS) application for their files.

• Fourth, we adopt expanded timeframes to file license renewal applications for earth stations and space stations. The prior rules had two different filing windows for earth station and NGSO space stations, each of which was early in the license term.

• Fifth, we change the default ex parte status of all applications to “permit-but-disclose.” Changing the default ex parte status will eliminate the need to change the status for each individual application where broad public participation is desired.

• Sixth, we provide non-U.S. licensed market access grantees the ability to receive a grant of special temporary access. Under prior rules, which did not allow for STA for market access grantees, such changes were required to be made through a modification.

• Lastly, we adopt a 30-day shot clock for earth station renewal applications. Prior rules had no such deadline for Commission action, resulting in a backlog of earth station renewal applications.

4. Through a bias towards permissionless innovation, we are eliminating barriers to a range of services: broadband connectivity to rural communities, direct-to-device services in remote areas beyond the reach of terrestrial wireless service, Internet of Things applications, and new applications of space-supported technology. Unleashing these new technologies and services will help every community get a fair shot at the opportunities that come from greater connectivity.

II. Background

5. In September 2023, the Commission adopted the First Report and Order and Further Notice of Proposed Rulemaking (FNPRM). In the FNPRM, the Commission sought comment on additional streamlining measures. First, the Commission sought comment on eliminating outdated, unnecessary and burdensome requirements, including the requirement for operators to maintain paper copies of electronically filed applications, and whether to change the default status of space and earth station proceedings to “permit-but-disclose” under the ex parte rules. The Commission also sought comment on several proposals to promote efficiency, including: (1) expanding the list of modifications not requiring prior authorization, (2) allowing market access for operators by permitting applicants to obtain the equivalent of STAs, (3) allowing operators to file STA extensions concurrently with the initial STA application, (4) expanding the window for operators to file renewal applications for existing licenses, and (5) exploring the feasibility of creating a Permitted List for NGSO operations. Additional measures upon which the Commission sought comment include: (1) streamlining the Commission's internal and inter-agency coordination process, (2) eliminating potentially duplicative coordination for space and earth station applications, (3) expanding conditions under which earth station operators may access the streamlined “deemed granted” process for adding points of communications, and (4) limiting timeframes for the Commission to take action on license applications. Finally, the Commission proposed to revise its existing rules to facilitate new modes of business by permitting earth station operators that do not yet have a specified satellite point of communication to apply for a limited license under certain conditions. In response to the FNPRM, the Commission received fourteen comments, twelve reply comments, and multiple ex parte submissions.

III. Discussion

6. In the Order, we revise the Commission's part 25 satellite communications rules and take a number of steps to reduce regulatory burdens on applicants and licensees.

A. Establishing Earth Station Baseline Licensing and Modified Procedures for Adding Points of Communication for All Licensees

7. Under the Commission's rules, applicants seeking authorization to operate an earth station must identify “either the specific satellite(s) with which it plans to operate or the eastern and western boundaries of the arc it plans to coordinate.” In the FNPRM, the Commission sought comment on its proposal to allow earth station operators to apply for and receive a limited license without first identifying a satellite point of communication under the condition that the license will require modification prior to operations with a specific point of communication, unless the point of communication is on the Permitted List and the operations fit within the parameters specified therein.

8. We revise the Commission's rules to permit applicants seeking authority to operate an earth station to apply for and receive a “baseline license” without first identifying the specific satellite(s) with which it plans to operate. Applicants will now be permitted to either submit their initial application with or without an identified point of communication. Applicants who do not include a point of communication with their initial application, however, will need to add a point of communication prior to communicating with any satellite, following the process we establish here today. Removing this regulatory barrier and permitting a new baseline license should allow GSaaS operators to be more agile, while also potentially lowering barriers to entry for newer entrants in the space economy.

9. To obtain a baseline license, applicants must provide all other information as required by the Commission's rules for applications for authority to operate an earth station, except for listing an identified point of communication. If the application is granted, a license will then be generated with a place-holder for the identified point(s) of communication field, which the applicant must later modify to add one or more identified points of communication prior to operating. Satellite points of communication must be added in accordance with the process described below before an earth station may communicate with a satellite system.

10. In conjunction with allowing applicants to file an application for a baseline license without a specified point of communication, we adopt a modified method for licensees to add a subsequent point of communication. Specifically, earth station operators must provide notice to the Commission by filing in ICFS FCC Form 312 and Schedule B pursuant to § 25.118. By filing notice, earth station operators certify that: (1) the operator has permission from the satellite operator to communicate with the satellite system; (2) the operator is not repointing the earth station's antenna beyond any coordinated range; (3) adding a point of communication does not result in an increased risk of harmful interference; (4) the operator does not request any change to authorized frequencies; and (5) the operator does not request to communicate with a satellite that does not have market access. The licensee will be permitted to begin operations with the new point(s) of communication immediately upon both filing notice of the change pursuant to § 25.118, and payment of the filing fee. Although several parties have requested the Commission exclude bands shared with terrestrial operations or bands subject to specific sharing requirements, we decline to do so. We find that this process affords maximum flexibility, while still ensuring that other operators in shared bands, such as Upper Microwave Flexible Use (UMFUS), Iridium and federal operators, remain protected under the Commission's rules from harmful interference.

11. Finally, licensees will be subject to a 15-day evaluation period that will permit the Space Bureau (Bureau) to remove a newly added point of communication if the point of communication would violate the conditions discussed herein and set forth in § 25.118(g) of the Commission's rules. In that case, the Bureau will provide notice to the licensee that the newly added point of communication was removed and is no longer authorized for use, and will provide an explanation as to why the point of communication is in violation of the Commission's rules. The licensee must terminate operations using the new point of communication immediately. Any violations of the Commission's rules discovered during or after the expiration of the 15-day evaluation period may be addressed via an enforcement action.

12. The record on the proposal to create a limited license option is mixed. Some commenters support issuing a limited license only if the Commission is able to navigate the various existing licensing requirements, while others argue there are no clear benefits and that permitting such a license would result in additional administrative burdens. But commenters generally agree with permitting expanded access to expedited treatment for adding points of communication. Upon review of the record, we are persuaded that the initial proposal would have created new burdens and would not have solved the regulatory burdens of adding a point of communication. Other proposals suggesting the Commission receive no notice of an update to the point of communication or ability to review the notice for conformance with the Commission's rules would remove necessary oversight. The proposal we adopt strikes the right balance between improving regulatory efficiency and fostering innovation while still affording the Commission and the public notice of the change and preserving the Commission's ability to maintain oversight.

B. Earth Station Licensing Adding Points of Communication Under § 25.117

13. Under current Commission rules, an application to modify an earth station license by adding a space station point of communication will be deemed granted 35 days after public notice if it meets certain parameters. In the FNPRM, the Commission sought comment on whether and how to expand access to the process established in § 25.117(i) to a broader universe of operators, and on whether it would be possible to extend this process in any of the bands that require coordination. Given the expedited process we establish in the Order by permitting earth station operators to add new identified points of communication without prior authorization, we find the procedures established in § 25.117(i) are no longer necessary. Specifically, because the procedures adopted in § 25.118(g) will simultaneously expand access to an expedited process of adding a point of communication while also protecting other spectrum users and ensuring that licensees adding points of communication coordinate with affected users as required by the Commission's rules. Accordingly, we eliminate § 25.117(i) in its entirety and find that the procedures we adopt today in § 25.118(g) better promote efficiency because Commission resources will no longer be spent processing applications that merely seek to add a new point of communication. In addition, this change will eliminate regulatory burdens on applicants, which will no longer need to file an application simply to add points of communication. As a result the § 25.117(i) procedures and the proposed expansion are unnecessary. Therefore, we remove § 25.117(i) and instead adopt the revisions to § 25.118(g) discussed above.

14. Generally, commenters support the approach of including more spectrum bands in the § 25.117(i) process. We agree with this premise but find that permitting earth station operators to add new points of communication under the § 25.118(g) process we establish in the Order is better suited to the goal of eliminating regulatory burdens and promoting efficiency. Specifically, the approach we adopt in § 25.118(g) establishes limits on when and how a licensee can add a point of communication while still requiring that licensees seeking to add a point of communication coordinate with other affected users as needed, the new approach adopted in § 25.118(g) will both ease regulatory burdens and protect other spectrum users.

C. Expanding the List of Modifications Not Requiring Prior Authorization

15. The current rules specify circumstances under which an operator can make modifications to its existing license without prior authorization. Depending on the nature of the modification, the operator may be required to notify the Commission of the change within 30 days after the modification, notify the Commission in advance of making the change, or make the change without notifying the Commission. In the First Report and Order, the Commission sought comment on whether to expand the list of modifications not requiring prior authorization and, if the Commission were to expand the list, what notification process should operators be required to follow.

16. Modifications to Earth Station Equipment Pursuant to § 25.118(b)(1). In § 25.118(b)(1), equipment in an authorized earth station can be replaced without prior authorization and without notifying the Commission “if the new equipment is electrically identical to the existing equipment.” In the FNPRM, the Commission sought comment on whether to expand upon the list of minor modifications that can be made by operators without prior authorization, including those identified in § 25.118(b). We change the Commission's rules to remove the language requiring equipment to be “electrically identical” and remove § 25.118(b)(1) in its entirety Although undefined in part 25, the term “electrically identical” has been used in part 2 equipment authorization procedures to mean equipment that is marketed under different names but is otherwise identical. This parameter is overly restrictive as applied to part 25. As a practical matter, unless the replacement earth station equipment will increase harmful interference or increase the radiation risk to humans beyond levels permitted by the Commission's rules, prior authorization or notification is unnecessary. Accordingly, we delete § 25.118(b)(1) and revise § 25.118(b)(2) to allow earth station operators to replace equipment without prior authorization and without notifying the Commission provided the replacement equipment does not involve a change enumerated in § 25.118(b)(2) or increase the radiation risk to humans beyond the limits established in § 25.115(p) and the earth station operator does not claim additional interference protections. This revision to § 25.118(b)(2) allows operators the flexibility and predictability to change equipment so long as it is not a change expressly enumerated in the rules as being impermissible without an application. Although some commenters oppose overly broadening § 25.118, this decision agrees with commenters who proposed broadening the scope of modifications not requiring prior authorization, including permitting modifications that will not negatively affect the interference environment. The proposal we adopt will reduce regulatory burdens without creating negative impacts to other users or causing a harmful change in the interference environment.

17. NGSO Modifications, Notification Required. We will allow NGSO space station operators to modify without prior authorization, upon 60 days prior notice to the Commission, the antenna, sensor or microelectronics, provided that the changes do not cause: (1) an increase in the transmit power, effective isotropic radiated power (EIRP), EIRP density, out-of-band emissions, or a change in the antenna pattern(s), or a change in the antenna gain characteristics beyond the technical parameters specified in the underlying authorization; (2) a change in the area-to-mass ratio of the satellite; (3) an increase in the in-orbit collision risk; (4) an increase in the re-entry risk; (5) an increase the risk of in harmful interference to other system(s); or (6) an increase in the need for harmful interference protection for the system.

18. The FNPRM sought comment on expanding the list of minor modifications that can be made by NGSO space station operators without prior authorization by the Commission. In response to the Commission's request for comment, one commenter proposed to permit NGSO space station operators to notify the Commission of any changes to the size or mass of the satellite form factor, and changes to equipment and sensors that do not involve: (1) an increased risk of harmful interference to other systems not permitted by coordination agreements, (2) a request for increased interference protection, (3) an increased risk of causing orbital debris, or (4) a change in orbital altitude unless it meets the criteria otherwise provided by § 25.118 of the Commission's rules. Other commenters supported this proposal.

19. We adopt this commenter's proposal with some modifications to further the Commission's goals of providing operators with flexibility and reducing administrative burdens while still ensuring that we retain oversight over important technical details of the satellite system. In addition, the changes we permit here allow an operator to make modifications to their system as newer, more efficient technology is developed. Further, we will require 60-days' notice prior to the change to allow Commission staff the opportunity and time to review the proposed modification, and if needed place the modification on public notice. This 60-day timeframe, as opposed to a shorter timeframe, ensures that if the modification is placed on public notice, there is sufficient time for comment, Commission review, and for the operator to make the change.

20. Removal of Satellite Points of Communication. In the FNPRM, the Commission sought comment on a suggestion from commenters to allow earth station operators to remove authorized points of communication without prior authorization.

21. We adopt the proposal to permit earth station operators to remove points of communication without prior authorization via notifying the Commission of the change within 30 days of the modification pursuant to § 25.118 of the Commission's rules. We find that requiring notification of the change within 30 days of the modification is necessary because removing a point of communication requires Commission staff to revise and reissue a license. Accordingly, requiring notification will allow Commission staff to update the license and ensure the license accurately reflects which points of communication an individual earth station is permitted to communicate with.

22. There is general support on the record to permit earth station operators to remove points of communication without prior authorization. We find that providing earth station operators the flexibility to remove points of communication without prior authorization will promote efficiency and reduce regulatory burdens as well as ease administrative burdens on the Commission, allowing it to dedicate staffing resources to other priorities.

23. Modification of Earth Station Antenna Identification. In the FNPRM, the Commission sought comment on a suggestion from commenters to permit earth station operators to modify antenna identification without prior authorization. We adopt the proposal to permit earth station operators to modify antenna identification without prior authorization or notification to the Commission. We find that permitting earth station operators to modify antenna identification without notice to the Commission or prior authorization is appropriate because such a change is purely administrative and clerical, and does not require Commission review as there is no standard procedure for antenna identification conventions. We note that if the applicant does require the license be updated to reflect the new antenna identification, then an applicant can seek a modification pursuant to § 25.118(a) of the Commission's rules, or can choose to inform the Commission as part of any other application associated with the license such as renewal or modification. This action will allow Bureau staff to update the license to reflect the changed antenna identification should the applicant wish.

24. Commenters agree with the proposal to permit earth station operators to modify antenna identification without prior authorization. We concur and find that providing earth station operators the flexibility to modify antenna identification without prior authorization or notice to the Commission will promote efficiency and ease administrative burdens, allowing the Commission to dedicate staffing resources to other priorities. Some commenters proposed including all “administrative changes” as modifications not requiring prior authorization or notice to the Commission. We decline to allow for all administrative changes to be included as modifications not requiring prior authorization or notice to the Commission because the Commission's rules do not define “administrative changes” from other types of changes. Instead, we remind applicants that a modification requires prior Commission approval under § 25.117 if it does not fall under one of the provisions in § 25.118 specifying modifications that do not require prior approval.

25. Modification of Space Station Antenna Parameters. In the FNPRM, the Commission sought comment on a proposal from a commenter to permit NGSO space station operators to modify antenna parameters without prior authorization so long as those changes fall within the authorized parameters of the satellite system and the operator provides notice to the Commission after the modification is made. Most commenters support the proposal to permit NGSO space station operators to modify antenna parameters without prior authorization, though some disagree citing the increased potential for interference. Rather than permitting operators to make the change prior to notification to the Commission, we instead allow changes to antennas, sensors, or microelectronics to be made to NGSO systems without authorization, upon 60 days prior notice to the Commission, as outlined herein. We find that other actions we take today to allow NGSO operators to make certain changes without prior authorization and upon notice to the Commission strike an appropriate balance between ensuring efficiency and reducing unnecessary regulatory burdens on operators, and ensure that operators are protected from harmful interference.

26. GSO Operations During Relocation. In the FNPRM, the Commission sought comment on a proposal from a commenter to permit operations beyond telemetry, tracking and command functions (TT&C) to continue during GSO satellite relocation drifts so long as the operator certifies that the “operations are limited to coordinated transmissions during the relocation and drift transition period.” We adopt the proposal to permit GSO operators to continue operations during relocation and drift subject to certain conditions. Specifically, operations must be on an unprotected, non-harmful inference basis and all operations must be coordinated with any existing GSO space station.

27. Some commenters argue in favor of this approach, while others oppose modifying the existing rules because an STA or a waiver is available to operators seeking to continue satellite operations during GSO relocation. While we recognize an STA or waiver is available to operators seeking to continue satellite operations during relocation, we disagree with commenters that this weighs against modifying the Commission's existing rules. We find that the actions we take today will promote efficiency by reducing unnecessary regulatory burdens on operators. There is minimal risk of interference in allowing GSO operations beyond TT&C during relocation, given that operations in different locations for a GSO are already authorized by the Commission.

28. Repositioning of NGSO Space Stations. In response to the Commission's request for comment on whether and how to expand the list of modifications not requiring prior authorization, one commenter suggested permitting NGSO space station operators to make modifications to their orbital configuration or to add replacement satellites without prior authorization and subject to a reduced notice requirement. We decline to adopt this proposal at this time absent a more comprehensive record, but note that this concept may be worth exploring further as part of the Commission's future modernization efforts.

D. Updating Procedural Rules

29. Eliminating Printed Hardcopies Requirement. Under the Commission's current rules, operators must retain an original paper copy of an electronically filed Form 312. In the FNPRM, the Commission sought comment on its proposal to eliminate the requirement for operators to retain an original paper copy of an electronically filed application. We now eliminate this requirement consistent with the reasoning articulated in the FNPRM to maximize efficiency and eliminate regulatory burdens, and with the overwhelming support in the record.

30. Change of Default Ex Parte Status of Space Station and Earth Station Applications. Under the Commission's ex parte rules, space and earth station applications are classified as “restricted” proceedings by default because they are applications for authority under Title III of the Communications Act. In restricted proceedings, ex parte presentations, i.e., written presentations not served on the parties in the proceeding or oral presentations made without advance notice to other parties and an opportunity to be present, are prohibited. In a restricted proceeding with only one party, such as an uncontested application, the sole party may freely make presentations to the Commission because there is no other party to be served or with a right to be present. The Commission may modify applicable ex parte rules in a particular proceeding, such as a change to an application's status, if it is in the public interest to do so. The Commission may also change an application's ex parte status for various reasons, including because the application covers the same subject area as a related rulemaking proceeding or the topic to be discussed in a particular application has applicability across a wide number of applications.

31. In the FNPRM, the Commission sought comment on its proposal to change the status of space and earth station applications, including requests for U.S. market access through non-U.S. licensed space stations, to the list of proceedings that are categorized as “permit-but-disclose” in the Commission's rules, i.e., ex parte presentations are permitted but must be disclosed. We now amend part 1 of the Commission's rules to add “applications for space and earth station authorization, including requests for U.S. market access through non-U.S. licensed space stations” to the list of proceedings that are “permit-but-disclose” under § 1.1206(a) of the Commission's rules. Because of the fast pace of change in the satellite industry and the fact that most spectrum use is shared with other users, many applications contain information important to a broad cross section of services and operations both in space and terrestrially. Thus, designating these applications as permit-but-disclose by default serves the public interest by making it easier for stakeholders to communicate with Commission staff while increasing transparency for the public. As SIA notes, the Commission frequently treats contested application proceedings as “permit-but-disclose” for these reasons. Further, by changing the default status, the Commission will no longer need to devote staff resources to changing individual applications from “restricted” to “permit-but-disclose” status in circumstances warranting broader participation, and stakeholders will no longer need to petition the Commission to make this change. Additionally, this change reduces the risk that new space industry entrants or entrants from other countries will inadvertently submit impermissible ex parte presentations in a restricted proceeding, and minimizes the expenditure of public and private resources associated with addressing inadvertent violations.

32. There is general support from commenters to change the default status of space and earth station applications from “restricted” to “permit-but-disclose.” One commenter recommends the Commission provide guidance on the applicable rules in different proceedings in order to avoid confusion for inexperienced parties. The Commission already publishes its ex parte rules and related information on its website, and the Bureau provides additional guidance as part of its Transparency Initiative, which is published on the Bureau website.

E. Expanding Timeframes for Filing License Renewal and Replacement Applications

33. Earth Station Renewal Window. Under the Commission's current rules, earth station license holders may seek a renewal of their license no earlier than 90 days and no later than 30 days prior to the expiration of the license term. In the FNPRM, the Commission sought comment on a proposal to expand the window for earth station operators to file an application for renewal from no earlier than 180 days and no later than 30 days prior to the expiration of the existing license, and on any alternatives to expand the filing window. Additionally, the Commission tentatively declined to expand the renewal application period up to the license expiration date because of the increased administrative burden to Commission staff, which would increase inefficiency.

34. After considering the comments submitted on this issue, we amend § 25.121(e) to expand the filing window for earth station renewal applications to allow applicants to file for renewal no earlier than 12 months, and no later than 30 days, prior to the expiration of the existing license. We agree that expanding the filing window for earth station applications allows more flexibility for operators, and will not negatively impact Commission processing. Moreover, we find that requiring licensees to file a request for renewal no later than 30 days prior to the expiration of the existing license—as required under current rules—is necessary to ensure sufficient time for any necessary review and to ensure that if a renewal application requires revisions or changes an applicant will be able to make those changes prior to the expiration of the license.

35. Many commenters support expanding the renewal window for earth station licenses. Some commenters support the proposal to expand the timeframe to allow earth station licensees to file an application for renewal no earlier than 180 days prior to the license expiration date, while other commenters suggest further expansion of the timeframe to 365 days or 12 months prior to the license expiration date. We find that amending § 25.121(e) to expand the opening of the renewal filing window to 12 months before license expiration is a better option because doing so provides an ample application window to support operator flexibility while also being easy to administer. Additionally, SIA proposes we eliminate the existing filing windows for earth station applications for renewal. As provided above, we expand the timeframe in which a renewal application can be filed, but retain the requirement that earth station licensees file an application for renewal at least 30 days prior to the expiration of the license term.

36. NGSO Space Station Replacement Window. We expand the filing window for NGSO space station replacements to allow applicants to file for renewal no earlier than 12 months, and no later than 30 days, prior to the expiration of the existing license. The Commission's current rules require NGSO space station licensees to file applications for replacement no earlier than 90 days and no later than 30 days prior to the end of the 12th year of the existing 15-year license term. In the FNPRM, the Commission sought comment on whether it should consider expanding the filing window within the twelfth year of the existing term for NGSO space station operators as another means of providing flexibility for applicants. We find that a single, expanded timeframe for both earth station and space station renewals provides operators of NGSO systems with a simple and consistent set period in which they can seek renewals. We are also persuaded that having a very early filing window during the twelfth year of a fifteen year license is not necessary for the review of the renewal application, especially given the steps the Bureau continues to take to reduce processing timeframes. A filing window which commences at the start of the final year of the expiration date of the license provides sufficient time for review by the Commission. As we explained in the discussion of the earth station renewal window, we require that the application be filed no later than 30 days prior to the expiration of the license to ensure sufficient time for review.

37. All commenters support expanding the filing window for NGSOs, while many propose eliminating the existing window and creating a uniform, year-long window for both earth station and NGSO license renewals during the final year of the license. We recognize commenters' interest in a uniform window for earth station and NGSO operators, we no longer find it appropriate to maintain two distinct renewal filing windows, establish a uniform filing window that maintains the opportunity for Commission review.

38. Market Access and Requests for STA. We adopt the proposal to permit non-U.S. licensed satellite operators that have been granted market access to seek special temporary access pursuant to the procedures set forth in § 25.120 of the Commission's rules. Non-U.S. licensed operators must first receive a grant of U.S. market access by filing a petition for declaratory ruling, including the operating parameters of the proposed system. Under the current framework, U.S. satellite licensees may apply for STA to make certain changes to the operating parameters of their satellites under certain circumstances. If a non-U.S. licensed satellite operator that has been granted market access seeks to make similar changes, however, the Commission's rules do not provide for the filing of an STA request and instead the operator must file the equivalent of a modification application seeking authority to operate under the requested parameters. In practice, due to the inability of market access grantees to obtain STAs, each U.S. earth station licensee operating with the non-U.S. licensed satellite must request an STA to operate using the revised technical parameters while the market access grantee's modification application for approval of the changes to its operating parameters is pending. This process, however, is limited to changes to the operating parameters related to earth station operations.

39. In the FNPRM, the Commission sought comment on whether to permit non-U.S. licensed space station operators that have been granted market access to request and receive an equivalent of an STA to communicate with U.S.-licensed earth stations. There is general support on the record for the proposal to amend the Commission's rules to permit market access applicants to seek and receive grants of special temporary access. We agree with commenters that the existing process imposes an unnecessary regulatory burden on market access grantees as well as an administrative burden on the Commission, as the end result requires each U.S. earth station licensee operating with the non-U.S. licensed space station to file individual applications seeking STA. We find that permitting market access grantees to request special temporary access will promote efficiency by eliminating the need for each U.S. earth station licensee operating with the market access grantee to request operational changes through an earth station STA request, which complicates the process for the market access grantee. Additionally, we find the action we take today will reduce the burden on Commission staff as filings to change operating parameters via earth stations must be done for each individual earth station resulting in multiple filings versus a single special temporary access for the space station. We decline, however, to allow initial market access via the special temporary access request because there are special considerations related to country of origin, competition, and ITU registration that must be considered before permitting a non-U.S. licensed system to access the market. Prior to seeking special temporary access, the non-U.S. licensed operator must first file a petition for declaratory ruling and receive a grant of market access pursuant to the existing procedure to obtain such grants. Once a grant of market access is received, the market access grantee may make changes to its operating parameters using the special temporary access procedures we adopt today.

40. Concurrent STA Requests. Pursuant to the framework set forth in the Commission's rules, the Commission may grant earth and space station operators an STA for up to either 30 or 60 days in certain circumstances without public notice, or for up to 180 days if the request is placed on public notice. In the FNPRM, the Commission sought comment on a proposal raised by commenters to permit operators to request multiple extensions of an initial 60-day STA as part of the same initial STA application. The Bureau has already taken special temporary measures to expedite STA processing to a period of seven days after public notice—rather than 30 days after public notice. These actions have significantly reduced the number of pending STAs, and facilitated faster processing of 180-day STAs—obviating the need for 60 day extensions in many cases. We agree with commenters that the STA process generally is in need of reexamination, and we plan to address the process holistically as part of future modernization efforts.

F. Feasibility of a Permitted List for NGSO Operations

41. Under the Commission's current rules, earth station operators may specify points of communication with authorized GSO space stations providing fixed-satellite service in certain frequency bands where GSO fixed-satellite service has primary status, under the Permitted List procedure. The Permitted List allows earth stations operators to add space stations on the Permitted List as points of communication to their existing license without requiring an application and approval by the Commission. For space stations that are not on the Permitted List and for operations that fall outside “routine” earth station technical parameters, applications to add satellite points of communication are required. In the FNPRM, the Commission sought further comment on the feasibility of allowing earth station applicants to specify that they will communicate with certain authorized NGSO systems, similar to the existing Permitted List procedures for earth station communications with GSOs.

42. We decline to adopt, at this time, a Permitted List for NGSO space stations as we do not have enough information on the record to determine whether the administrative burdens of establishing and maintaining such a list is warranted. Few commenters address this issue. Some commenters raise concerns about establishing a Permitted List for NGSOs such as increased risk of aggregate interference levels, consuming available spatial look angles, and impacts to competition. However, because the considerations vary based upon spectrum band, we are unable to determine at this time whether such a list is a workable solution for specific bands. There may be merit to further considering this issue as we continue the Commission's modernization initiatives.

G. Timing for Completion of Application Review

43. In the FNPRM, the Commission sought additional comment on implementing timeframes for application review, including whether to impose shot clocks for final action on certain types of space station or earth station applications, and relevant comparisons to other forms of timelines or shot clocks. Although we find that there may be a benefit to establishing either internal or external shot clocks, we decline to pursue broad adoption at this time. We may seek further comment in a future proceeding to explore the implementation of shot clocks as needed. In any event, the actions taken today to permit earth station operators to more easily add and remove satellite points of communication, permit NGSO licensees to make certain modifications without prior authorization, and establish shot clocks for certain earth station renewal applications as discussed below, will reduce administrative burdens and expedite staff review of applications.

44. Although we decline at this time to adopt broad final action shot clocks for space station and earth station applications, we do adopt a 30-day shot clock for earth station renewal applications that meet the criteria set forth here. Earth station renewal applications are typically routine, and we find that establishing shot clocks for final action on these applications will promote efficiency and preserve scarce Commission resources. To this end, if the Bureau does not affirmatively act on a renewal application or place it on public notice within 30 days of the application filing date and filing fee paid, the renewal will be automatically granted without further action. This 30-day shot clock does not apply to earth station renewal applications that: (1) include an application for modification; (2) make any changes to currently authorized operating parameters; or (3) seek to operate in frequency bands subject to a freeze or limitations.

45. The majority of commenters oppose implementing shot clocks for final action on space station or earth station applications. Of the few that support shot clocks, some commenters suggest internal review milestone shot clocks limited to sending applications to the National Telecommunications and Information Administration (NTIA) for coordination, or for seeking clarification from applicants after the public notice period. Other commenters suggest final action shot clocks on all types of licenses, while the remainder suggest limited final action shot clocks for “routine” earth station applications or for NGSOs that are outside of processing rounds. As discussed above, while we recognize there may be benefits to establishing either internal or external shot clocks, the practical and technical complexities of space station and earth station licensing coupled with conflicting views from the industry warrant exploration of this proposal in a future proceeding except in the specific case of earth station renewals. The Commission remains committed to speed, efficiency, and eliminating regulatory burdens on applicants, and the steps we take today mark the Commission's initial efforts to streamline and modernize the licensing process.

H. Streamlining Inter-Agency and Inter-Bureau Coordination and Eliminating Duplicative Coordination Requirements

46. Radiofrequency spectrum is a limited resource for communications, and many frequency bands are allocated on a shared basis between various types of operators, including federal and non-federal users. To facilitate shared use of frequency bands and to avoid harmful interference between operators, the Commission's bureaus and offices coordinate among each other, and the Commission coordinates with other agencies such as NTIA. Under the current coordination procedures with NTIA, earth stations are identified and coordinated in the satellite application and conditions are placed on the satellite authorization regarding communication parameters with the specified earth stations. Then, as part of the earth station license application, the same earth stations that were previously coordinated at the space station authorization stage are yet again coordinated with NTIA. In the FNPRM, the Commission sought comment on measures to expedite coordination process, including how to make the inter-agency review process in spectrum bands shared with federal operators more efficient, and ways to eliminate duplicative coordination requirements. The Commission also sought comment on how to eliminate duplicative coordination requirements for earth and space station operators, including the possibility of coordinating the earth station sites and frequencies utilized with those earth stations once as part of either the space station or earth station coordination with NTIA. Generally, commenters support efforts to increase processing speed and eliminate inefficiencies in the inter-agency coordination processes, eliminate duplicative coordination requirements, and point to specific frequency bands in which duplicative coordination tends to occur.

47. We agree with commenters that eliminating duplicative coordination will increase efficiency. The Commission will continue to update internal processes, including inter-bureau coordination procedures, to address inefficiencies and eliminate unnecessary regulatory burdens. In addition, the Commission will continue to work with NTIA on changes to the existing inter-agency coordination process that will promote speed and efficiency. We will announce additional changes at a later date as these internal processes are finalized.

I. Additional Comments Raised

48. In the FNPRM, the Commission sought further comment to develop the record on additional proposals to streamline the part 25 licensing framework. In response, some commenters advocate for additional rule and policy changes including: (1) limits on the use of “bespoke” conditions and instead issue standardized conditions for satellites; (2) use the call sign and entity name in the point of communication for an earth station license as opposed to using a snapshot of the system's orbital configuration at the time of authorization; (3) publication of application processing data, and (4) revised proposed rules to align with environmental concerns per the National Environmental Policy Act (NEPA) and Council on Environmental Quality guidelines. We decline to adopt the proposals submitted by commenters as described above because they are outside the scope of this proceeding. We may explore such suggestions in future modernization efforts. We also note that the Bureau already identifies points of contacts on earth station licenses using the call sign when available. Some authorizations, however, are specific to orbital slots and therefore require identification beyond use of the call sign.

J. Benefits and Costs

49. We find that the rules we adopt today will promote efficiency in the Commission's processing of space and earth station applications and significantly reduce regulatory compliance costs. Applying conservative assumptions, we estimate that the Commission's actions would result in annual cost savings of approximately $45,000. These costs savings are in addition to more difficult to quantify, but nevertheless important benefits such as enhanced flexibility in regulatory compliance and more efficient application processing.

50. We implement the following proposals in the Order. We offer licensees significantly greater flexibility by adopting a new licensing process for earth station operators, allowing them to receive a license without specifying a satellite point of communication and to more easily remove previously identified points of communication. We take deregulatory steps to allow operators to more freely implement certain system changes by expanding the range of circumstances under which they can modify their existing licenses without prior Commission authorization. We further promote flexibility in the application process by adopting rules that extend the timeframe for license renewal applications, change the default ex parte status of all applications to “permit-but-disclose,” and allow non-U.S.-licensed market access grantees to receive a grant of special temporary access. We reduce regulatory burden by eliminating the procedural requirement to retain paper copies of applications. Finally, we promote regulatory efficiency by adopting a 30-day shot clock for earth station renewal applications.

51. The estimate that the deregulatory steps we take today will result in annual cost savings of approximately $45,000. This reduction will occur in two specific areas. First, we estimate that costs associated with applications to update points of communication, including expenses related to salaries, benefits, and filing fees—will decrease by approximately $34,000 annually. This estimate is based on reduced attorney filing times and savings from application fees across an anticipated 44 filings per year. Second, we estimate a cost reduction of approximately $11,000 annually associated with the elimination of hard copy retention requirements. This figure is based on decreased paralegal time needed for an estimated 3,000 applications per year.

IV. Final Regulatory Flexibility Analysis

52. As required by the RFA, the Commission incorporated an Initial Regulatory Flexibility Analysis (IRFA) in the FNPRM released in September 2023. The Commission sought written public comment on the proposals in the FNPRM, including comment on the IRFA. No comments were filed addressing the IRFA. The FRFA conforms to the RFA.

A. Need for, and Objectives of, the Rules

53. In recent years, the Commission has received an unprecedented number of applications for earth and space station licenses. The Order facilitates and expedites the acceptance for filing of earth and space station applications under 47 CFR part 25 and adopts other streamlining measures to keep pace with the growing demand for satellite services and innovative satellite operations. This rulemaking will open new modes of business to further fuel the growth of the space economy, eliminate unnecessary and burdensome requirements on earth and space station operators, and promote efficiency and eliminate administrative burdens.

54. The Order adopts changes to Commission's rules aimed at removing barriers and regulatory burdens on earth and space station operators. Specifically, the Order revises § 1.1206(a) to reclassify the status earth and space station applications as permit-but-disclose pursuant to the Commission's ex parte rules; § 25.115(a)(5)(i) to establish a baseline license for earth station applicants that do not require an identified point of communication prior to receiving a grant of authority to operate; § 25.118(a)(3) allowing earth station operators to remove a point of communication without prior authorization; § 25.118(b)(2) to expand equipment modifications to authorized earth stations that operators can make; § 25.118(e)(4) to enable GSO space station operators to conduct operations beyond telemetry, tracking, and command during relocation without prior authorization; and § 25.121(e) to extend the timeframe for earth and space station licensees to file an application for renewal. Additionally, the Order removes and reserves § 25.110(e), eliminating the requirement that the applicant maintain paper copies of their application; removes § 25.117(i), eliminating a limited procedure for earth station licensees to add identified points of communication; removes and reserves § 25.118(b)(1), eliminating a redundant rule that could cause confusion with § 25.118(b)(2). Finally, the Order adds § 25.118(b)(3) which allows for earth station operators to modify antenna identification without prior authorization and without providing notice to the Commission; § 25.118(g), enabling earth station operators to add a point of communication provided certain criteria are met; § 25.118(h) to permit certain modifications to NGSOs upon 60-days' notice to the Commission; and § 25.137(h), permitting non-U.S. licensed market access grantees to request special temporary access pursuant to the procedures for special temporary authorization typically available to U.S. licensees.

B. Summary of Significant Issues Raised by Public Comments in Response to the IRFA

55. There were no comments filed that specifically addressed the proposed rules and policies presented in the IRFA.

C. Response to Comments by the Chief Counsel for Advocacy of the Small Business Administration

56. Pursuant to the Small Business Jobs Act of 2010, which amended the RFA, the Commission is required to respond to any comments the Chief Counsel for Advocacy of the Small Business Administration (SBA) filed in this proceeding, and provide a detailed statement of any change made to the proposed rules as a result those comments. The Chief Counsel did not file any comments in response to the proposed rules or policies in this proceeding.

D. Description and Estimate of the Number of Small Entities to Which the Rules Will Apply

57. The RFA directs agencies to provide a description of, and where feasible, an estimate of, the number of small entities that may be affected by the rules adopted herein. The RFA generally defines the term “small entity” as having the same meaning as under the Small Business Act. In addition, the term “small business” has the same meaning as the term “small business concern” under the Small Business Act. A “small business concern” is one which: (1) is independently owned and operated; (2) is not dominant in its field of operation; and (3) satisfies any additional criteria established by the SBA.

58. Satellite Telecommunications. This industry comprises firms “primarily engaged in providing telecommunications services to other establishments in the telecommunications and broadcasting industries by forwarding and receiving communications signals via a system of satellites or reselling satellite telecommunications.” Satellite telecommunications service providers include satellite and earth station operators. The SBA small business size standard for this industry classifies a business with $44 million or less in annual receipts as small. U.S. Census Bureau data for 2017 show that 275 firms in this industry operated for the entire year. Of this number, 242 firms had revenue of less than $25 million. Consequently, using the SBA's small business size standard most satellite telecommunications service providers can be considered small entities. The Commission notes however, that the SBA's revenue small business size standard is applicable to a broad scope of satellite telecommunications providers included in the U.S. Census Bureau's Satellite Telecommunications industry definition. Additionally, the Commission neither requests nor collects annual revenue information from satellite telecommunications providers, and is therefore unable to more accurately estimate the number of satellite telecommunications providers that would be classified as a small business under the SBA size standard. Additionally, based on Commission data in the 2024 Universal Service Monitoring Report, as of December 31, 2023, there were 57 providers that reported they were engaged in the provision of satellite telecommunications services. Of these providers, the Commission estimates that approximately 40 providers have 1,500 or fewer employees. Consequently, using the SBA's small business size standard, a little more than half of these providers can be considered small entities.

59. All Other Telecommunications. This industry is comprised of establishments primarily engaged in providing specialized telecommunications services, such as satellite tracking, communications telemetry, and radar station operation. This industry also includes establishments primarily engaged in providing satellite terminal stations and associated facilities connected with one or more terrestrial systems and capable of transmitting telecommunications to, and receiving telecommunications from, satellite systems. Providers of internet services (e.g. dial-up ISPs) or Voice over Internet Protocol (VoIP) services, via client-supplied telecommunications connections are also included in this industry. The SBA small business size standard for this industry classifies firms with annual receipts of $40 million or less as small. U.S. Census Bureau data for 2017 show that there were 1,079 firms in this industry that operated for the entire year. Of those firms, 1,039 had revenue of less than $25 million. Based on this data, the Commission estimates that the majority of “All Other Telecommunications” firms can be considered small.

E. Description of Economic Impact and Projected Reporting, Recordkeeping, and Other Compliance Requirements for Small Entities

60. The RFA directs agencies to describe the economic impact of proposed rules on small entities, as well as projected reporting, recordkeeping and other compliance requirements, including an estimate of the classes of small entities which will be subject to the requirement and the type of professional skills necessary for preparation of the report or record.

61. The Order amends rules that are applicable to earth and space station operators that request a license or authorization from the Commission, or by entities requesting that the Commission grant a request for U.S. market access. The changes adopted in the Order, as described below, will decrease the burden for small entities and other operators by streamlining or eliminating unnecessary regulatory burdens. Specifically, the Order eliminates the rule requiring applicants to maintain paper copies of their application, reclassifies the status of earth and space station applications as permit-but-disclose under the Commission's ex parte rules, and eliminates an outdated, limited process for earth station operators to add or remove identified points of communication. The Order also revises the Commission's rules to expand the timeframe for licensees to file an application for renewal, from the previous timeframe of no earlier than 90 days and no later than 30 days prior to the expiration, to the revised timeframe of 12 months and no later than 30 days prior to expiration.

62. Further, the Order expands certain equipment modifications to authorized earth stations that operators can make without prior authorization, so long as the equipment will not cause an increase in harmful interference or radiation risk to humans. The Order also permits earth station operators to modify antenna identification without prior authorization or notice to the Commission, and allows GSO space station operators to continue operations during relocation. Additionally, the Order permits NGSO space station operators to make certain modifications upon 60 day notice without prior authorization, provided that the changes do not cause an increase in certain power, antenna patterns, area-to-mass ratio of the satellite, in-orbit collision risk, re-entry risk, or harmful interference to other systems. Finally, the Order creates a baseline license for earth station applicants with flexibility to add identified points of communication and a process to obtain special temporary access for non-U.S. licensed market access. In light of these burden-reducing effects of these rule amendments and the elimination of some rules, the Commission does not believe that small entities will have to hire additional professionals to comply with the Order because the new and revised rules eliminate or reduce previous licensing requirements for small and other operators. Further, we utilize existing systems and processes that small operators should be familiar with, and make changes that require the minimum information necessary to achieve the above stated goals.

F. Discussion of Steps Taken To Minimize the Significant Economic Impact on Small Entities, and Significant Alternatives Considered

63. The RFA requires an agency to provide, “a description of the steps the agency has taken to minimize the significant economic impact on small entities . . . including a statement of the factual, policy, and legal reasons for selecting the alternative adopted in the final rule and why each one of the other significant alternatives to the rule considered by the agency which affect the impact on small entities was rejected.”

64. The Commission considered alternatives to the rule revisions we adopt today and takes steps to remove unnecessary regulatory burdens that will better facilitate the licensing process for new industries, and also minimize potential significant economic impact on small entities. For example, as discussed in section E above, in the Order, we eliminate or reduce filing burdens on small entities by eliminating the rule requiring applicants to maintain paper copies of their application, expand the timeframes for licensees to file an application for renewal, and expand equipment modifications to authorized earth stations that operators can make without prior authorization. The Commission selected these alternatives to the existing rules because they are consistent with the Commission's goals of providing flexibility and reducing regulatory burdens for operators. Further, commenters support many of these changes, such as expanding the filing window for earth station renewal applications to no earlier than 12 months, and no later than 30 days, prior to the expiration of the existing license. However, we declined to adopt other alternatives, such as including all administrative changes as modifications, and instead will rely upon the specific prohibitions enumerated in the revised rules. Other proposals, involving alternatives to permit NGSO space station operators to make modifications to their orbital configuration, establishing a Permitted List for NGSOs, and imposing shot clocks for final action on certain types of applications, were not adopted because there is not enough information on the record to support changes at this time. Finally, some proposals, including such alternatives as imposing limits on the use of “bespoke” conditions, using the call sign and entity name in the point of communication for an earth station license, publishing application processing data, and revising proposed rules to align with environmental concerns, were not adopted because they were outside the scope of this proceeding.

G. Report to Congress

65. The Commission will send a copy of the Order, including the FRFA, in a report to Congress pursuant to the Congressional Review Act. In addition, the Commission will send a copy of the Order, including the FRFA, to the Chief Counsel for Advocacy of the SBA and will publish a copy of the Order and the FRFA (or summaries thereof) in the Federal Register.

V. Ordering Clauses

66. It is ordered, pursuant to Sections 4(i), 7(a), 301, 303, 307, 308, 309, 310, 332 of the Communications Act of 1934, as amended, 47 U.S.C. 154(i), 157(a), 301, 303, 307, 308, 309, 310, 332, that the Order is adopted.

67. It is further ordered that the Order shall be effective 30 days after publication in the Federal Register, with the exception of revisions to §§ 25.110(e), 25.117(i), 25.118(a)(3), 25.118(b)(1), (2), and (3), and (e)(4), and (h), and 25.137(h), which may contain new or modified information collection requirements and will not be effective until after OMB completes any review the Bureau determines is required under the PRA and provide an effective date by subsequent Public Notice.

68. It is further ordered that the Office of the Secretary, shall send a copy of the Order, including the FRFA Analysis, to the Chief Counsel for Advocacy of the SBA, in accordance with Section 603(a) of the RFA.

69. It is further ordered that the Office of the Managing Director, Performance Program Management, shall send a copy of the Order in a report to be sent to Congress and the Government Accountability Office pursuant to the Congressional Review Act.

List of Subjects

47 CFR Part 1

Practice and procedure, Reporting and recordkeeping requirements, Telecommunications, Wireless radio services.

47 CFR Part 25

Administrative practice and procedure, Satellites.

Federal Communications Commission.
Katura Jackson,
Federal Register Liaison Office, Office of the Secretary.

Final Rules

For the reasons discussed in the preamble, the Federal Communications Commission amends 47 CFR parts 1 and 25 as follows:

PART 1—PRACTICE AND PROCEDURE

1. The authority citation for part 1 continues to read as follows:

Authority: 47 U.S.C. chs. 2, 5, 9, 13; 28 U.S.C. 2461 note; 47 U.S.C. 1754, unless otherwise noted.

2. Amend § 1.1206 by adding paragraph (a)(12) to read as follows:

§ 1.1206 Permit-but-disclose proceedings.

(a) * * *

(12) Applications for space and earth station authorizations, including requests for U.S. market access through non-U.S. licensed space stations.

* * * * *

PART 25—SATELLITE COMMUNICATIONS

3. The authority citation for part 25 continues to read as follows:

Authority: 47 U.S.C. 154, 301, 302, 303, 307, 309, 310, 319, 332, 605, and 721, unless otherwise noted.

§ 25.110 [Amended]

4. Delayed indefinitely, amend § 25.110 by removing and reserving paragraph (e).

5. Amend § 25.115 by revising paragraph (a)(5)(i) to read as follows:

§ 25.115 Applications for earth station authorizations.

(a) * * *

(5) * * *

(i) A detailed description of the service to be provided, including frequency bands and satellites to be used. The applicant may identify either the specific satellite(s) with which it plans to operate, or the eastern and western boundaries of the arc it plans to coordinate.

* * * * *

§ 25.117 [Amended]

6. Delayed indefinitely, amend § 25.117 by removing and reserving paragraph (i).

7. Amend § 25.118 by adding paragraph (g) to read as follows:

§ 25.118 Modifications not requiring prior authorization.

* * * * *

(g) Adding satellite points of communication. An earth station operator may add a point of communication without prior authorization, provided:

(1) The operator has permission from the satellite operator to communicate with the satellite system;

(2) The earth station operator does not repoint the earth station's antenna beyond any coordinated range;

(3) Adding a point of communication does not result in an increased risk of harmful interference;

(4) Adding the point of communication does not involve any change to authorized frequencies; and

(5) The added point of communication is not a satellite that does not have U.S. market access. An earth station applicant may begin operating with the added point of communication under this rule part after both electronically filing Form 312 and Schedule B in the International Communications Filing System (ICFS) in accordance with the applicable provisions of part 1, subpart Y of this chapter and paying the applicable filing fee. This filing shall constitute a conditional authorization. The conditional authorization will automatically expire and the operator must terminate operations immediately using the new point of communication if, within 15 days of paying the filing fee, the Commission notifies the earth station operator that the added point of communication does not comply with requirements of this paragraph. If the Commission does not provide the foregoing notice within the prescribed period, the conditional authorization will automatically expire and the license will be modified in ICFS to add the point of communication as of the date of payment of the filing fee. Nothing in this rule part prohibits the Commission from pursuing enforcement action after the lapse of the 15-day period for noncompliant operation, including noncompliant operation occurring during the period of conditional authorization.

8. Delayed indefinitely, amend § 25.118 by:

a. Revising paragraph (a)(3);

b. Removing and reserving paragraph (b)(1);

c. Revising paragraph (b)(2);

d. Adding paragraph (b)(3);

e. Revising paragraph (e)(4); and

f. Adding paragraph (h).

The revisions and additions read as follows:

§ 25.118 Modifications not requiring prior authorization.

(a) * * *

(3) An earth station operator may remove a point of communication without prior authorization.

* * * * *

(b) * * *

(1) [Reserved]

(2) Licensees may make other changes to their authorized earth stations, including replacing equipment or the addition of new transceiver/antenna combinations, without notifying the Commission, provided the modification does not involve:

(i) An increase in EIRP or EIRP density (either main lobe or off-axis);

(ii) Additional operating frequencies;

(iii) A change in polarization;

(iv) An increase in antenna height;

(v) Antenna repointing beyond any coordinated range; or

(vi) A change from the originally authorized coordinates of more than 1 second of latitude or longitude for stations operating in frequency bands shared with terrestrial systems or more than 10 seconds of latitude or longitude for stations operating in frequency bands not shared with terrestrial systems.

(vii) additional interference protections; or

(viii) increased radiation to humans beyond the limits permitted by the Commission's rules.

(3) An earth station operator may modify the antenna identification for its authorized earth stations without prior authorization and without notifying the Commission.

* * * * *

(e) * * *

(4) The licensee certifies that all operations during the drift will be conducted on an unprotected, non-harmful interference basis and that all operations will be coordinated with any existing GSO space stations to ensure that no unacceptable interference results from operations during the relocation.

* * * * *

(h) NGSO modifications, 60-day notification required. NGSO space station licensees may make the following modifications upon notifying the Commission and any potentially affected licensed spectrum user at least 60 days prior to implementation of the change, provided the operator certifies in the notice that it meets the following requirements. The notification must be filed electronically on FCC Form 312 through the International Communications Filing System (ICFS), or any successor system as announced via public notice, in accordance with the applicable provisions of part 1, subpart Y of this chapter:

(1) NGSO space station operators may change an antenna, sensor or microelectronics so long as the changes do not cause:

(i) An increase in the transmit power, EIRP, EIRP density, out-of-band emissions, or change in the antenna pattern(s) or antenna gain characteristics beyond any technical parameters specified in the underlying authorization;

(ii) A change in the area-to-mass ratio of the satellite;

(iii) An increase in the in-orbit collision risk;

(iv) An increase in the re-entry risk;

(v) An increase in the risk of harmful interference to other system(s); or

(vi) An increase in the need for harmful interference protection for the system.

9. Amend § 25.121 by revising paragraph (e) and adding paragraph (g) to read as follows:

§ 25.121 License term and renewals.

* * * * *

(e) Renewal of licenses. Applications for renewals of earth station licenses must be submitted on FCC Form 312R no earlier than 12 months, and no later than 30 days, before the expiration date of the license. Applications for space station system replacement authorization for non-geostationary orbit satellites shall be filed no earlier than 12 months, and no later than 30 days, before the expiration date of the license.

* * * * *

(g) Autogrant procedures for certain earth station renewals. An application for renewal of an earth station license will be deemed granted without any further action by the Commission 30 days after filing and paying any associated regulatory fees if the application meets all of the following criteria:

(1) The renewal application does not make any modifications to the license;

(2) The renewal application does not make any changes to the currently authorized operating parameters;

(3) The renewal application is not for operations in a frequency band that is subject to a freeze on new or renewed licenses or is restricted in how a license may be renewed; and

(4) The Commission does not choose to place the application on public notice pursuant to § 25.151.

10. Delayed indefinitely, amend § 25.137 by adding paragraph (h) to read as follows:

§ 25.137 Requests for U.S. market access through non-U.S.-licensed space stations.

* * * * *

(h) A non-U.S. licensed space station operator with a grant of market access may seek special temporary access for operations under the procedures set forth in § 25.120.

[FR Doc. 2025-16375 Filed 8-26-25; 8:45 am]

BILLING CODE 6712-01-P